DEPARTMENT OF TRANSPORTATION

Surface Transportation Board

[STB Finance Docket No. 34150]

The Belt Railway Company of Chicago—Trackage Rights Exemption—Indiana Harbor Belt Railroad Company

Indiana Harbor Belt Railroad Company (IHB), a Class III rail carrier, has agreed to grant non-exclusive bridge trackage rights to The Belt Railway Company of Chicago (BRC), between the connection of BRC and IHB at Argo, IL, milepost 26.5 and the connection of IHB and Canadian National Railroad Company (CN) at Argo, milepost 27.5, a total distance of approximately 1 mile.

The transaction was scheduled to be consummated on or after December 27, 2001, the effective date of the exemption.

The purpose of the trackage rights is to provide BRC with a new direct connection with CN at Argo to facilitate a new interchange movement.

This notice is filed under 49 CFR 1180.2(d)(7). If it contains false or misleading information, the exemption is void ab initio. Petitions to revoke the exemption under 49 U.S.C. 10502(d) may be filed at any time. The filing of a petition to revoke will not automatically stay the transaction.

Under 49 U.S.C. 10502(g), the Board may not use its exemption authority to relieve a rail carrier of its statutory obligation to protect the interests of its employees. Section 11326(c), however, does not provide for labor protection for transactions under sections 11324 and 11325 that involve only Class III rail carriers. Because this transaction involves Class III rail carriers only, the Board, under the statute, may not impose labor protective conditions for this transaction.

An original and 10 copies of all pleadings, referring to STB Finance Docket No. 34150, must be filed with the Surface Transportation Board, Office of the Secretary, Case Control Unit, 1925 K Street, NW., Washington, DC 20423-0001. In addition, one copy of each pleading must be served on Thomas J. Healy, Troutman Sanders LLP, 401 Ninth Street, NW., Suite 1000, Washington, DC 20004.

Board decisions and notices are available on our web site at “WWW.STB.DOT.GOV.”

Decided: January 2, 2002.
By the Board, David M. Konschnik, Director, Office of Proceedings.
Vernon A. Williams,
Secretary.

[FR Doc. 02-413 Filed 1-8-02; 8:45 am]

BILLING CODE 4915-00-P